DEPARTMENT OF COMMERCE

[I.D. 102300D]

Submission for OMB Review; Comment Request

The Department of Commerce has submitted to the Office of Management and Budget (OMB) for clearance the following proposal for collection of information under the provisions of the Paperwork Reduction Act (44 U.S.C. Chapter 35).

Agency:National Oceanic and Atmospheric Administration, (NOAA).

Title: Bluefin Tuna Statistical Document.

Form Number(s): None.

OMB Approval Number: 0648-0040.

Type of Request: Regular submission.

Burden Hours: 390.

Number of Respondents: 50.

Average Hours Per Response: 5 minutes for a documentation not needing validation, 20 minutes for a document needing validation.

Needs and Uses: U.S. tuna dealers who import or export bluefin tuna are required to complete and transmit to NOAA a Bluefin Tuna Statistical Document (BSD) as required by the International Commission for the Conservation of Atlantic Tunas. Foreign tuna dealers who export to the United States must ensure that a BSD validated by a government official accompanies the import.

Affected Public: Business and other for-profit organizations.

Frequency: On Occasion.

Respondent’s Obligation: Mandatory.

OMB Desk Officer: David Rostker, (202) 395-3897Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 17, 2000.
Madeleine Clayton,
Departmental Forms Clearance Officer, Office of the Chief Information Officer.

[FR Doc. 00-27701 Filed 10-26-00; 8:45 am]

BILLING CODE: 3510-22 -S